DEPARTMENT OF ENERGY

Federal Energy Regulatory Commission

Combined Notice of Filings #1

Take notice that the Commission received the following electric rate filings:

Docket Numbers: ER10-2994-012; ER12-2075-003; ER12-2076-004; ER12-2077-004; ER12-2078-004; ER12-2081-004; ER12-2083-004; ER12-2084-004; ER12-2086-004; ER12-2108-004; ER12-2097-004; ER12-2101-004; ER12-2102-005; ER12-2109-004; ER12-2106-004; ER12-2107-004.

Applicants: Iberdrola Renewables, LLC, Atlantic Renewable Projects II LLC, Barton Windpower LLC, Buffalo Ridge I LLC, Buffalo Ridge II LLC, Elm Creek Wind, LLC, Elm Creek Wind II LLC, Farmers City Wind, LLC, Flying Cloud Power Partners, LLC, MinnDakota Wind LLC, Moraine Wind LLC, Moraine Wind II LLC, New Harvest Wind Project LLC, Northern Iowa Windpower II LLC, Rugby Wind LLC, Trimont Wind I LLC.

Description: Updated Market Power Analysis for the Central Region of Iberdrola Renewables, LLC, et al.

Filed Date: 6/25/15.

Accession Number: 20150625-5090.

Comments Due: 5 p.m. ET 8/24/15.

Docket Numbers: ER12-1932-005; ER12-1933-006; ER12-1934-006.

Applicants: Franklin County Wind, LLC, Interstate Power and Light Company, Wisconsin Power and Light Company.

Description: Triennial Market Power Analysis for the Central Region of Franklin County Wind, LLC, et al.

Filed Date: 6/25/15.

Accession Number: 20150625-5036.

Comments Due: 5 p.m. ET 8/24/15.

Docket Numbers: ER15-1668-002.

Applicants: Phoenix Energy Group, LLC.

Description: Tariff Amendment: 2nd Amended MBR Tariff Filing to be effective 6/5/2015.

Filed Date: 6/25/15.

Accession Number: 20150625-5049.

Comments Due: 5 p.m. ET 7/16/15.

Docket Numbers: ER15-1980-000.

Applicants: PJM Interconnection, L.L.C.

Description: Section 205(d) Rate Filing: Service Agreement No. 1498; Queue No. AA1-037 to be effective 5/26/2015.

Filed Date: 6/24/15.

Accession Number: 20150624-5143.

Comments Due: 5 p.m. ET 7/15/15.

Docket Numbers: ER15-1981-000.

Applicants: Rolling Thunder I Power Partners, LLC.

Description: Section 205(d) Rate Filing: Revised Market-Based Rate Filing to be effective 8/25/2015.

Filed Date: 6/25/15.

Accession Number: 20150625-5016.

Comments Due: 5 p.m. ET 7/16/15.

Docket Numbers: ER15-1982-000.

Applicants: Midcontinent Independent System Operator, Inc.

Description: Section 205(d) Rate Filing: 2015-06-25_SA 2813 ATCLLC-Wisconsin Public Service Corporation GIA (J293) to be effective 6/26/2015.

Filed Date: 6/25/15.

Accession Number: 20150625-5045.

Comments Due: 5 p.m. ET 7/16/15.

Docket Numbers: ER15-1983-000.

Applicants: PJM Interconnection, L.L.C.

Description: Section 205(d) Rate Filing: Service Agreement No. 4095; Queue No. X3-087 to be effective 6/1/2015.

Filed Date: 6/25/15.

Accession Number: 20150625-5084.

Comments Due: 5 p.m. ET 7/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2015.
Kimberly D. Bose,
Secretary.

[FR Doc. 2015-16304 Filed 7-1-15; 8:45 am]

BILLING CODE 6717-01-P